DEPARTMENT OF COMMERCE

National Oceanic and Atmospheric Administration

50 CFR Chapters II, III, IV, V, and VI

RIN 0648-XC637

Plan for Periodic Review of Regulations

AGENCY: National Marine Fisheries Service (NMFS), National Oceanic and Atmospheric Administration (NOAA), Commerce.

ACTION: Proposed rule; request for comments.

SUMMARY: The Regulatory Flexibility Act (RFA) requires that the National Marine Fisheries Service (NMFS) periodically review existing regulations that have a significant economic impact on a substantial number of small entities, such as small businesses, small organizations, and small governmental jurisdictions. This plan describes how NMFS will perform this review and describes the regulations that are being proposed for review during the current review-cycle.

DATES: Written comments must be received by NMFS by July 22, 2013.

ADDRESSES: You may submit comments on this document, identified by NOAA-NMFS-2012-0160, by any of the following methods:

• Electronic Submission: Submit all electronic public comments via the Federal e-Rulemaking Portal. Go to www.regulations.gov/#!docketDetail;D=NOAA-NMFS-2012-0160, click the “Comment Now!” icon, complete the required fields, and enter or attach your comments.

• Mail: Submit written comments to Wendy Morrison, National Marine Fisheries Service, NOAA, Office of Sustainable Fisheries, 1315 East-West Highway, Silver Spring, MD 20910 (mark outside of envelope “Comments on 610 review”).

• Fax: 301-713-1193; Attn: Wendy Morrison.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Wendy Morrison, (301) 427-8504.

SUPPLEMENTARY INFORMATION:

Background

The Regulatory Flexibility Act (RFA), 5 U.S.C. 601, requires that Federal agencies take into account how their regulations affect “small entities,” including small businesses, small Governmental jurisdictions and small organizations. For regulations proposed after January 1, 1981, the agency must either prepare a Regulatory Flexibility Analysis or certify that the regulation, if promulgated, will not have a significant economic impact on a substantial number of small entities. Section 602 requires that NMFS issue an Agenda of Regulations identifying rules the Agency is developing that are likely to have a significant economic impact on a substantial number of small entities.

Section 610 of the RFA requires Federal agencies to review existing regulations. It requires that NMFS publish a plan in the Federal Register explaining how it will review its existing regulations which have or will have a significant economic impact on a substantial number of small entities. Regulations that become effective after January 1, 1981, must be reviewed within 10 years of the publication date of the final rule. Section 610(c) requires that NMFS publish annually in the Federal Register a list of rules it will review during the succeeding 12 months. The list must describe the rule, explain the need for it, give the legal basis for it, and invite public comment.

Criteria for Review of Existing Regulations

The purpose of the review is to determine whether existing rules should be left unchanged, or whether they should be revised or rescinded in order to minimize significant economic impacts on a substantial number of small entities, consistent with the objectives of other applicable statutes. In deciding whether change is necessary, the RFA establishes five factors that NMFS will consider:

(1) Whether the rule is still needed;

(2) What type of complaints or comments were received concerning the rule from the public;

(3) The complexity of the rule;

(4) How much the rule overlaps, duplicates or conflicts with other Federal rules, and, to the extent feasible, with State and local governmental rules; and

(5) How long it has been since the rule has been evaluated or how much the technology, economic conditions, or other factors have changed in the area affected by the rule.

Plan for Periodic Review of Rules

NMFS will conduct reviews in such a way as to ensure that all rules for which a Final Regulatory Flexibility Analysis was prepared are reviewed within 10 years of the year in which they were originally issued. By December 31, 2013, NMFS will review all such rules issued during 2005 and 2006:

1. Fisheries of the Exclusive Economic Zone Off Alaska; Allocating Bering Sea and Aleutian Islands King and Tanner Crab Fishery Resources. RIN 0648-AS47 (70 FR 10174, March 2, 2005). NMFS issued a final rule implementing Amendments 18 and 19 to the FMP for Bering Sea/Aleutian Islands King and Tanner Crabs. Amendments 18 and 19 amended the FMP to include the Voluntary Three-Pie Cooperative Program (hereinafter referred to as the Crab Rationalization Program). Congress amended the Magnuson-Stevens Act to require the Secretary of Commerce to approve and implement the Program. The action was necessary to increase resource conservation, improve economic efficiency, and improve safety. This action was intended to promote the goals and objectives of the Magnuson-Stevens Act, the FMP, and other applicable law.

2. Fisheries of the Exclusive Economic Zone Off Alaska; Revisions to Western Alaska Community Development Quota Program. RIN 0648-AS00 (70 FR 15010, March 24, 2005). NMFS issued a final rule to revise regulations governing the Western Alaska Community Development Quota Program. These regulatory amendments simplified the processes for making quota transfers, for authorizing vessels as eligible to participate in the Community Development Quota fisheries, and for obtaining approval of alternative fishing plans. This action was necessary to improve NMFS's ability to effectively administer the Community Development Quota Program. It was intended to further the goals and objectives of the FMP for Groundfish of the Bering Sea and Aleutian Islands Management Area.

3. Pacific Halibut Fisheries; Subsistence Fishing. RIN 0648-AR88 (70 FR 16742, April 1, 2005). NMFS issued a final rule to amend the subsistence fishery rules for Pacific halibut in waters off Alaska. This action was necessary to address subsistence halibut management concerns in densely populated areas. This action was intended to meet the conservation and management requirements of the Northern Pacific Halibut Act of 1982 and the Magnuson-Stevens Act.

4. Fisheries of the Exclusive Economic Zone Off Alaska; License Limitation Program for the Scallop Fishery. RIN 0648-AS90 (70 FR 39664, July 11, 2005). NMFS issued a final rule to implement Amendment 10 to the FMP for the Scallop Fishery off Alaska, which modified the gear endorsements under the License Limitation Program for the scallop fishery. This action was necessary to allow increased participation by License Limitation Program license holders in the scallop fisheries off Alaska. This action was intended to promote the goals and objectives of the Magnuson-Stevens Act, the FMP, and other applicable laws.

5. Pacific Halibut Fisheries; Fisheries of the Exclusive Economic Zone Off Alaska; Individual Fishing Quota Program; Community Development Quota Program. RIN 0648-AT03 (70 FR 43328, July 27, 2005). NMFS issued a final rule to amend the Pacific halibut regulations for waters in and off Alaska. This action was necessary to modify the Individual Fishing Quota (IFQ) Program and the Western Alaska Community Development Quota (CDQ) Program to allow quota share holders in International Pacific Halibut Commission Regulatory Area 4C to fish their Area 4C IFQ or CDQ in Area 4D. This action was intended to enhance harvesting opportunities for halibut by IFQ and CDQ fishermen and was necessary to promote the objectives of the Northern Pacific Halibut Act of 1982 with respect to the IFQ and CDQ Pacific halibut fisheries, consistent with the regulations and resource management objectives of the International Pacific Halibut Commission and the North Pacific Fishery Management Council.

6. Magnuson-Stevens Act Provisions; Fishing Capacity Reduction Program; Bering Sea/Aleutian Islands King and Tanner Crabs; Industry Fee System for Fishing Capacity Reduction Loan. RIN 0648-AS46 (70 FR 54652, September 16, 2005). NMFS established regulations to implement an industry fee system for repaying a $97,399,357.11 Federal loan financing a fishing capacity reduction program in the Bering Sea/Aleutian Islands King and Tanner Crab fishery. This action was necessary for implementing the fee system.

7. Fisheries of the Exclusive Economic Zone Off Alaska; Total Allowable Catch Amount for “Other Species” in the Groundfish Fisheries of the Gulf of Alaska. RIN 0648-AT92 (71 FR 12626, March 13, 2006). NMFS issued a final rule that implements Amendment 69 to the FMP for Groundfish of the Gulf of Alaska. Amendment 69 amended the manner in which the total allowable catch for the “other species” complex was annually determined in the Gulf of Alaska. The amendment allowed the total allowable catch amount for the “other species” complex to be set less than or equal to 5 percent of the sum of groundfish targets species in the Gulf of Alaska. This final rule also raised the maximum retainable amount of “other species” in the directed arrowtooth flounder fishery from 0 percent to 20 percent. This action was necessary to reduce the potential for overfishing those species in the “other species” complex in the Gulf of Alaska and to reduce the amount of “other species” required to be discarded in the arrowtooth flounder fishery. This action was intended to promote the goals and objectives of the Magnuson-Stevens Act, the FMP, and other applicable laws.

8. Fisheries of the Exclusive Economic Zone Off Alaska; Groundfish Retention Standard. RIN 0648-AT04 (71 FR 17362, April 6, 2006). NMFS issued a final rule to implement a groundfish retention standard program in the Bering Sea and Aleutian Islands Management Area for trawl catcher/processor vessels that are 125 ft (38.1 m) length overall or greater and that are not listed American Fisheries Act catcher/processors vessels. This action was necessary to reduce bycatch and improve utilization of groundfish harvested by these non-American Fisheries Act trawl catcher/processor vessels. This action was intended to promote the management objectives of the Improved Retention/Improved Utilization program, the FMP for Groundfish of the Bering Sea and Aleutian Islands Management Area, and the Magnuson-Stevens Act.

9. Fisheries of the Exclusive Economic Zone Off Alaska; Groundfish Observer Program. RIN 0648-AS93 (71 FR 20346, April 20, 2006). NMFS issued a final rule to amend regulations supporting the North Pacific Groundfish Observer Program. This action was necessary to revise requirements facilitating observer data transmission, improve support for observers, and provide consistency with current regulations. The final rule promoted the goals and objectives of the FMP for Groundfish of the Bering Sea and Aleutian Islands Management Area and the FMP for Groundfish of the Gulf of Alaska.

10. Fisheries of the Exclusive Economic Zone Off Alaska; Allocating Bering Sea and Aleutian Islands King and Tanner Crab Fishery Resources. RIN 0648-AU06 (71 FR 32862, June 7, 2006). NMFS issued a final rule implementing Amendment 20 to the FMP for Bering Sea/Aleutian Islands King and Tanner crabs. This action amends the Crab Rationalization Program to modify the allocation of harvesting shares and processing shares for Bering Sea Tanner crab (Chionoecetes bairdi) to allow this species to be managed as two separate stocks. This action was necessary to increase resource conservation and economic efficiency in the crab fisheries that were subject to the Program. This action was intended to promote the goals and objectives of the Magnuson-Stevens Act, the FMP, and other applicable law.

11. Fisheries of the Exclusive Economic Zone Off Alaska; Recordkeeping and Reporting; Tagged Pacific Halibut and Tagged Sablefish. RIN 0648-AR09 (71 FR 36489, June 27, 2006). NMFS issued a final rule to exclude tagged halibut and tagged sablefish catches from deduction from fishermen's Individual Fishing Quota (IFQ) and from Western Alaska Community Development Quota (CDQ) accounts. This action was necessary to ensure that only halibut and sablefish that are tagged with an external research tag are excluded from IFQ deduction, and to extend the same exclusion to halibut and sablefish harvested under the CDQ Program. This action was intended to improve administration of the IFQ and CDQ Programs, to enhance collection of scientific data from external tags, and to further the goals and objectives of the FMP for Groundfish of the Bering Sea and Aleutian Islands Management Area, the FMP for Groundfish of the Gulf of Alaska, and the halibut management program.

12. Fisheries of the Exclusive Economic Zone Off Alaska; Groundfish, Crab, Salmon, and Scallop Fisheries of the Bering Sea and Aleutian Islands Management Area and Gulf of Alaska. RIN 0648-AT09 (71 FR 36694, June 28, 2006). NMFS issued a final rule implementing Amendments 78 and 65 to the FMP for Groundfish of the Bering Sea and Aleutian Islands Management Area, Amendments 73 and 65 to the FMP for Groundfish of the Gulf of Alaska, Amendments 16 and 12 to the FMP for Bering Sea/Aleutian Islands King and Tanner Crabs, Amendments 7 and 9 to the FMP for the Scallop Fishery off Alaska, and Amendments 7 and 8 to the FMP for Salmon Fisheries in the Exclusive Economic Zone off the Coast of Alaska. These amendments revised the FMPs by identifying and describing essential fish habitat, designating habitat areas of particular concern, and included measures to minimize to the extent practicable adverse effects on essential fish habitat. This action was necessary to protect important habitat features to sustain managed fish stocks.

13. Fisheries of the Exclusive Economic Zone Off Alaska; Bering Sea and Aleutian Islands King and Tanner Crab Fishery Resources; Crab Economic Data Reports. RIN 0648-AU44 (71 FR 38112, July 5, 2006). NMFS issued a final rule to implement revision of the annual economic data reports submission deadline from May 1 to June 28. This action was necessary to provide adequate time for crab harvesters and processors participating in the Bering Sea and Aleutian Islands Crab Rationalization Program to submit accurate and complete data on an economic data report for the previous fishing year. This action was intended to promote the goals and objectives of the Magnuson-Stevens Act.

14. Fisheries of the Exclusive Economic Zone Off Alaska; Allocating Bering Sea and Aleutian Islands King and Tanner Crab Fishery Resources. RIN 0648-AU24 (71 FR 38298, July 6, 2006). NMFS issued a final rule implementing changes to the regulations for the Crab Rationalization Program. This action was necessary to correct two discrepancies in the scope of the sideboard protections for Gulf of Alaska groundfish fisheries provided in a previous rulemaking. Specifically, this action removed the sideboard restrictions from vessels that did not generate Bering Sea snow crab (Chionoecetes opilio) quota share and applied the sideboards to federally permitted vessels operating in the State of Alaska parallel fisheries. This action was intended to promote the goals and objectives of the FMP for Bering Sea/Aleutian Islands King and Tanner Crabs, the Magnuson-Stevens Act, and other applicable law.

15. Fisheries of the Exclusive Economic Zone Off Alaska; Allocating Bering Sea and Aleutian Islands King and Tanner Crab Fishery Resources. RIN 0648-AU37 (71 FR 40030, July 14, 2006). NMFS issued a final rule to implement Amendment 21 to the FMP for Bering Sea/Aleutian Islands King and Tanner Crabs. This action made changes to the arbitration system in the Bering Sea and Aleutian Islands Crab Rationalization Program by modifying the timing for harvesters and processors to match harvesting and processing shares, and the timing for initiating arbitration proceedings to resolve price and other delivery disputes. This action was necessary to increase resource conservation and economic efficiency in the crab fisheries that are subject to the Crab Rationalization Program. This action was intended to promote the goals and objectives of the Magnuson-Stevens Act, the FMP, and other applicable law.

16. Fishing Capacity Reduction Program for the Longline Catcher Processor Subsector of the Bering Sea and Aleutian Islands Non-pollock Groundfish Fishery. RIN 0648-AU42 (71 FR 57696, September 29, 2006). NMFS issued a final rule implementing the Bering Sea and Aleutian Islands Catcher Processor Capacity Reduction Program for the longline catcher processor subsector of the Bering Sea and Aleutian Islands non-pollock groundfish fishery, in compliance with the FY 2005 Appropriations Act. This program was voluntary and permit holders of the Reduction Fishery (Subsector Members) were eligible to participate. Subsector Members were required to sign and abide by the Capacity Reduction Agreement and, if their offers were selected, a Fishing Capacity Reduction Contract with the U.S. Government. These key components of the Capacity Reduction Plan were prepared by the Freezer Longline Conservation Cooperative and were implemented by the final regulations. Subsector Members participating in the Reduction Program received up to $36 million in exchange for relinquishing valid non-interim Federal License Limitation Program BSAI groundfish licenses endorsed for catcher processor fishing activity, Catcher/Processor, Pacific cod, and hook and line gear, as well as any present or future claims of eligibility for any fishing privilege based on such permit and additionally, any future fishing privilege of the vessel named on the permit. Individual fishing quota shares were excluded from relinquishment. The intent of this final rule was to permanently reduce harvesting capacity in the fishery, which should result in increased harvesting productivity for postreduction Subsector Members and help with conservation and management of the fishery.

17. Fisheries of the Exclusive Economic Zone Off Alaska; Allocating Gulf of Alaska Fishery Resources. RIN 0648-AT71 (71 FR 67210, November 20, 2006). NMFS issued a final rule to implement Amendment 68 to the FMP for Groundfish of the Gulf of Alaska. This action implemented statutory provisions for the Central Gulf of Alaska Rockfish Pilot Program. This action was necessary to enhance resource conservation and improve economic efficiency for harvesters and processors who participate in the Central Gulf of Alaska rockfish fishery. This action was intended to promote the goals and objectives of the Magnuson-Stevens Act, the FMP, and other applicable law.

18. Atlantic Highly Migratory Species; Atlantic Bluefin Tuna Quota Specifications, General Category Effort Controls, and Catch-and-Release Provision. RIN 0648-AR86 (70 FR 10896, March 7, 2005). NMFS announced the final initial 2004 fishing year specifications for the Atlantic bluefin tuna fishery to set bluefin tuna quotas for each of the established domestic fishing categories, to set General category effort controls, and to establish a catch-and-release provision for recreational and commercial bluefin tuna handgear vessels during a respective quota category closure. This action was necessary to implement recommendations of the International Commission for the Conservation of Atlantic Tunas, as required by the Atlantic Tunas Convention Act, and to achieve domestic management objectives under the Magnuson-Stevens Act.

19. Atlantic Highly Migratory Species; Recreational Atlantic Blue and White Marlin Landings Limit; Amendments to the FMP for Atlantic Tunas, Swordfish, and Sharks and the FMP for Atlantic Billfish. RIN 0648-AQ65 (71 FR 58058, October 2, 2006). NMFS finalized the Consolidated Highly Migratory Species FMP, which changed certain management measures, adjusted regulatory framework measures, and continued the process for updating Highly Migratory Species essential fish habitat. The final rule: Established mandatory workshops for commercial fishermen and shark dealers; implemented complementary time/area closures in the Gulf of Mexico; implemented criteria for adding new or modifying existing time/area closures; addressed rebuilding and overfishing of northern albacore tuna and finetooth sharks; implemented recreational management measures for Atlantic billfish; modified bluefin tuna General Category subperiod quotas and simplified the management process of bluefin tuna; changed the fishing year for tunas, swordfish, and billfish to a calendar year; authorized speargun fishing gear in the recreational fishery for bigeye, albacore, yellowfin, and skipjack tunas; authorized buoy gear in the commercial swordfish handgear fishery; clarified the allowance of secondary gears (also known as cockpit gears); and clarified existing regulations. This final rule also announced the decision regarding a petition for rulemaking regarding closure areas for spawning bluefin tuna in the Gulf of Mexico. The Consolidated Highly Migratory Species FMP combines the management of all Atlantic HMS into one FMP, and combines and simplifies the objectives of the previous FMPs.

20. Fisheries of the Northeastern United States; Summer Flounder, Scup, and Black Sea Bass Fisheries; 2005 and 2006 Summer Flounder Specifications; 2005 Scup and Black Sea Bass Specifications. RIN 0648-AR51 (70 FR 303, January 4, 2005). NMFS issued final specifications for the 2005 and 2006 summer flounder fisheries and for the 2005 scup and black sea bass fisheries, and made preliminary adjustments to the 2005 commercial quotas for these fisheries. This final rule specified allowed harvest limits for both commercial and recreational fisheries, including scup possession limits. This action prohibited federally permitted commercial vessels from landing summer flounder in Delaware in 2005. Regulations governing the summer flounder fishery required publication of this notification to advise the State of Delaware, Federal vessel permit holders, and Federal dealer permit holders that no commercial quota was available for landing summer flounder in Delaware in 2005. This action also made changes to the regulations regarding the commercial scup fishery. The intent of this action was to establish allowed 2005 harvest levels and other measures to attain the target fishing mortality or exploitation rates, as specified for these species in the Summer Flounder, Scup, and Black Sea Bass FMP, and to reduce bycatch and improve the efficiency of the commercial scup fishery.

21. Fisheries of the Northeastern United States; Atlantic Sea Scallop Fishery and Northeast Multispecies Fishery; Framework 16 and Framework 39. RIN 0648-AR55 (70 FR 2821, January 18, 2005). NMFS published this final rule to implement measures previously approved, but not implemented under Framework 16 to the Atlantic Sea Scallop FMP and Framework 39 to the Northeast Multispecies FMP. The implementation of these measures was delayed, pending approval of reporting and recordkeeping requirements by the Office of Management and Budget. This final rule allowed general category scallop vessels to fish in the Northeast multispecies closed area access program, provided that they complied with new recordkeeping and reporting requirements. The Office of Management and Budget approved the reporting and recordkeeping requirements for vessels with general category scallop permits, as required under the Paperwork Reduction Act. The intent of these frameworks was to allow the scallop fishery to access the scallop resource within portions of the NE multispecies closed areas during specified seasons, and ensure that NE multispecies catches by scallop vessels are consistent with the Multispecies FMP.

22. Magnuson-Stevens Fishery Conservation and Management Act Provisions; Fisheries of the Northeastern United States; Monkfish Fishery; Amendment 2. RIN 0648-AQ25 (70 FR 21927, April 28, 2005). NMFS implemented approved measures contained in Amendment 2 to the Monkfish FMP. Amendment 2 was developed to address essential fish habitat and bycatch issues, and to revise the FMP to address several issues raised during the public scoping process. This rule implemented the following measures: A new limited access permit for qualified vessels fishing south of 38°20′ N. lat.; an offshore monkfish fishery in the Southern Fishery Management Area; a maximum roller-gear disc diameter of 6 inches (15.2 cm) for trawl gear vessels fishing in the Southern Fishery Management Area; closure of two deep-sea canyon areas to all gears when fishing under the monkfish days-at-sea program; establishment of a research days-at-sea set-aside program and a days-at-sea exemption program; a North Atlantic Fisheries Organization Regulated Area Exemption Program; adjustments to the monkfish incidental catch limits; a decrease in the monkfish minimum size in the Southern Fishery Management Area; removal of the 20-day block requirement; and new additions to the list of actions that can be taken under the framework adjustment process contained in the FMP. The intent of this action was to provide efficient management of the monkfish fishery and to meet conservation objectives. Also, NMFS informed the public of the approval by the Office of Management and Budget of the collection-of-information requirements contained in this final rule and publishes the Office of Management and Budget control numbers for these collections.

23. Fisheries of the Northeastern United States; Recordkeeping and Reporting Requirements; Regulatory Amendment to Modify Seafood Dealer Reporting Requirements. RIN 0648-AS87 (70 FR 21976, April 28, 2005). NMFS issued this final rule to amend the electronic reporting and recordkeeping regulations for federally permitted seafood dealers participating in the fisheries associated with the following FMPs: Summer flounder, scup, black sea bass, Atlantic sea scallop, Northeast multispecies, monkfish, Atlantic mackerel, squid, butterfish, Atlantic surfclam, ocean quahog, Atlantic herring, Atlantic deep-sea red crab, tilefish, Atlantic bluefish, skate, and/or spiny dogfish fisheries. This action reduced the submission schedule for dealer reports from daily to weekly, eliminated duplicate reporting of certain species, and clarified existing reporting requirements. This action also allowed vessel operator permits issued by the Southeast Region to satisfy Northeast vessel operator permitting requirements. The purpose of this action was to reduce the reporting burden on seafood dealers, improve data quality, simplify compliance, and clarify existing requirements.

24. Fisheries of the Northeastern United States; Northeast Multispecies Fishery; Framework Adjustment 40B. RIN 0648-AS33 (70 FR 31323, June 1, 2005). Framework Adjustment 40B was developed by the New England Fishery Management Council to complete necessary modifications to existing effort control programs implemented under Amendment 13 to the Northeast Multispecies FMP. The intent of the rule was to improve the effectiveness of these programs, to create additional opportunities for commercial fishing vessels in the fishery to target healthy groundfish stocks, and to increase the information available to assess groundfish bycatch in the herring fishery. This final rule implemented several revisions to the Days-at-Sea Leasing and Transfer Programs, modified provisions for the Closed Area II Yellowtail Flounder Special Access Program, revised the allocation criteria for the Georges Bank Cod Hook Sector, established a Days-at-Sea credit for vessels standing by an entangled whale, implemented new notification requirements for Category 1 herring vessels, and removed the net limit for Trip gillnet vessels.

25. Fisheries of the Northeastern United States; Atlantic Deep-Sea Red Crab Fishery; Framework Adjustment 1 to the Atlantic Deep-Sea Red Crab FMP. RIN 0648-AS35 (70 FR 44066, August 1, 2005). NMFS issued final regulations to implement Framework Adjustment 1 to the Atlantic Deep-Sea Red Crab FMP. This final rule modified the existing annual review and specification process by allowing specifications to be set for up to 3 years at a time, and continued the current target total allowable catch. The purpose of this action is to conserve and manage the red crab resource, reduce the staff resources necessary to effectively manage this fishery, and provide consistency and predictability to the industry.

26. Fisheries of the Northeastern United States; Atlantic Sea Scallop Fishery; Framework Adjustment 17. RIN 0648-AT10 (70 FR 48860, August 22, 2005). This final rule implemented Framework 17 to the Atlantic Sea Scallop FMP, which was developed and submitted by the New England Fishery Management Council and approved by NMFS. Framework 17 required that vessels issued a general category scallop permit and that intended to land over 40 lb (18.14 kg) of shucked, or 5 bu (176.2 L) of in-shell scallops, install and operate vessel monitoring systems. Framework 17 also allowed general category scallop vessels with vessel monitoring systems units to turn off (powerdown) their vessel monitoring systems units after they had offloaded scallops and while they were tied to a fixed dock or mooring. Finally, Framework 17 revised the broken trip adjustment provision for limited access scallop vessels fishing in the Sea Scallop Area Access Program. The intent of this action was to provide more complete monitoring of the general category scallop fleet, to reduce vessel monitoring systems operating costs, and to eliminate a provision that may have a negative influence on vessel operator decisions at sea and facilitate safety.

27. Magnuson-Stevens Fishery Conservation and Management Act Provisions; Fisheries of the Northeastern United States; Northeast Multispecies Fishery; Framework Adjustment 41. RIN 0648-AT08 (70 FR 54302, September 14, 2005). This final rule implemented Framework Adjustment 41 to the Northeast Multispecies FMP, which expanded participation in the existing Closed Area I Hook Gear Haddock Special Access Program to all Northeast multispecies limited access days-at-sea vessels fishing with hook gear. This action also modified some of the management measures currently applicable to the Georges Bank Cod Hook Sector vessels when declared into the CA I Hook Gear Haddock Special Access Program by including modification of the season, haddock total allowable catch, and restricting vessels to fishing only inside the Special Access Program area on trips declared into the Special Access Program. In addition, NMFS clarified regulations pertaining to fishing in the Eastern U.S./Canada Haddock Special Access Program Pilot Program Area. This action was intended to mitigate the economic and social impacts resulting from Amendment 13 to the FMP and to meet the conservation and management requirements of the Magnuson-Stevens Act.

28. Fisheries of the Northeastern United States; Northeast Multispecies Fishery; Amendment 13 and Framework Adjustment 40-A. RIN 0648-AS80 (70 FR 76422, December 27, 2005). This rule corrected inadvertent errors and omissions found in the April 27, 2004, final rule implementing Amendment 13 and the November 19, 2004, interim final rule implementing Framework Adjustment 40-A to the Northeast Multispecies FMP. This rule also clarified specific regulations to maintain consistency with, and to accurately reflect, the intent of Amendment 13 and Framework 40-A to the FMP. Finally, this rule revised the process for selecting total allowable catch allocations for the U.S./Canada Management Areas pursuant to a court order. Amendment 13 was developed to end overfishing and rebuild NE multispecies stocks. Framework 40-A was developed to provide additional opportunities for NE multispecies vessels to target healthy stocks in an effort to help achieve optimum yield from the fishery and to mitigate some of the economic impacts resulting from effort reductions implemented under Amendment 13. This action was conducted by NMFS under the authority of the Magnuson-Stevens Act.

29. Fisheries of the Northeastern United States; Summer Flounder, Scup, and Black Sea Bass Fisheries; 2006 Summer Flounder, Scup, and Black Sea Bass Specifications; Preliminary 2006 Quota Adjustments; 2006 Summer Flounder Quota for Delaware. RIN 0648-AT27 (70 FR 77060, December 29, 2005). NMFS issued final specifications for the 2006 summer flounder, scup, and black sea bass fisheries, and made preliminary adjustments to the 2006 commercial quotas for these fisheries. This final rule specified allowed harvest limits for both commercial and recreational fisheries, including scup possession limits. This action prohibited federally permitted commercial vessels from landing summer flounder in Delaware in 2006. Regulations governing the summer flounder fishery require publication of this notification to advise the State of Delaware, Federal vessel permit holders, and Federal dealer permit holders that no commercial quota is available for landing summer flounder in Delaware in 2006. This action also defined the total length measurement for black sea bass and made changes to the regulations regarding the commercial black sea bass pot/trap fishery. The intent of this action was to establish harvest levels and other measures to attain the target fishing mortality or exploitation rates, as specified for these species in the Summer Flounder, Scup, and Black Sea Bass FMP, to reduce bycatch, and to improve the efficiency of the commercial black sea bass fishery.

30. Fisheries of the Northeastern United States; Spiny Dogfish; Framework Adjustment 1; Establishing a Multipleyear Specifications Process. RIN 0648-AT29 (71 FR 3016, January 19, 2006). NMFS announced the implementation of Framework Adjustment 1 to the Spiny Dogfish FMP, which allowed the specification of commercial quotas and other management measures for up to 5 years. This framework adjustment was intended to improve management of the Northeast Atlantic stock of Spiny Dogfish.

31. Fisheries of the Northeastern United States; Atlantic Sea Scallop Fishery; Framework 18. RIN 0648-AT25 (71 FR 33211, June 8, 2006). This final rule implemented Framework Adjustment 18 to the Atlantic Sea Scallop FMP, which was developed by the New England Fishery Management Council. The following management measures were implemented by this rule: Scallop fishery specifications for 2006 and 2007; scallop Area Rotation Program adjustments; and revisions to management measures that would improve administration of the FMP. In addition, a seasonal closure of the Elephant Trunk Access Area was implemented to reduce potential interactions between the scallop fishery and sea turtles, and to reduce finfish and scallop bycatch mortality. Framework 18 was developed to meet the FMP's requirement to adjust biennially the management measures for the scallop fishery. The FMP requires the biennial adjustments to ensure that measures meet the target fishing mortality rate and other goals of the FMP and achieve optimum yield from the scallop resource on a continuing basis.

32. Fisheries of the Northeastern United States; Summer Flounder, Scup, and Black Sea Bass Fisheries; Framework Adjustment 6. RIN 0648-AT26 (71 FR 42315, July 26, 2006). NMFS issued this final rule to implement measures contained in Framework Adjustment 6 to the Summer Flounder, Scup, and Black Sea Bass FMP that allowed regional conservation equivalency in the summer flounder recreational fishery. The intent was to provide flexibility and efficiency to the management of the summer flounder recreational fishery, specifically by expanding the suite of management tools available when conservation equivalency was implemented. In addition, this final rule included three administrative modifications to the existing regulations for clarification purposes.

33. Fisheries of the Northeastern United States; Northeast Multispecies Fishery; Framework Adjustment 43. RIN 0648-AU33 (71 FR 46871, August 15, 2006). NMFS implemented Framework Adjustment 43 to the Northeast Multispecies FMP, which addressed the incidental catch of Northeast multispecies by vessels fishing for Atlantic herring by establishing a Herring Exempted Fishery. Vessels issued a Category 1 Atlantic herring fishing permit were authorized to possess incidentally caught haddock until the catch of haddock reached the level specified as an incidental haddock catch cap; upon attainment of the haddock catch cap, all herring vessels were limited to 2,000 lb (907 kg) of herring per trip, if any of the herring on board was caught within the Gulf of Maine/Georges Bank Herring Exemption Area defined in Framework 43. Herring Category 1 vessels were also authorized to possess up to 100 pounds (45 kg) of other regulated multispecies (cod, witch flounder, plaice, yellowtail flounder, pollock, winter flounder, windowpane flounder, redfish, and white hake), and were required to provide advanced notification of their intent to land for purposes of enforcement. Atlantic herring processors and dealers that sort herring catches as part of their operations were required to cull and report all haddock.

34. Fisheries of the Northeastern United States; Northeast Multispecies Fishery; Great South Channel Scallop Dredge Exemption Area. RIN 0648-AU50 (71 FR 51779, August 31, 2006). NMFS issued this final rule to modify the regulations implementing the Northeast Multispecies FMP to allow vessels issued either a General Category Atlantic sea scallop permit or a limited access sea scallop permit, when not fishing under a scallop days-at-sea limitation, to fish for scallops with small dredges (combined width not to exceed 10.5 ft) within the Great South Channel Scallop Dredge Exemption Area. This final rule responded to a request from the fishing industry to add this area to the list of exempted fisheries. The intent of this action was to allow small scallop dredge vessels to harvest scallops in a manner that is consistent with the bycatch reduction objectives of the FMP.

35. Magnuson-Stevens Act Provisions; Fisheries of the Northeastern United States; Northeast Multispecies Fishery, Framework Adjustment 42; Monkfish Fishery, Framework Adjustment 3. RIN 0648-AT24 (71 FR 62156, October 23, 2006). This final rule implemented Framework Adjustment 42 to the Northeast Multispecies FMP and Framework Adjustment 3 to the Monkfish FMP. Framework Adjustment 42, developed by the New England Fishery Management Council, was a biennial adjustment to the Northeast Multispecies FMP that set forth a rebuilding program for Georges Bank yellowtail flounder and modified Northeast multispecies fishery management measures to reduce fishing mortality rates on six other groundfish stocks in order to maintain compliance with the rebuilding programs of the FMP. Framework Adjustment 42 also modified and continued specific measures to mitigate the economic and social impacts of Amendment 13 to the FMP and allowed harvest levels to approach optimum yield. This final rule also implements the Monkfish FW 3 provision prohibiting a limited access monkfish days-at-sea vessel that also possesses a limited access NE multispecies days-at-sea permit from using a monkfish days-at-sea when participating in the Regular B days-at-sea program.

36. Pacific Halibut Fisheries; Catch Sharing Plan; Fisheries Off West Coast States and in the Western Pacific; Pacific Coast Groundfish Fishery; Specifications and Management Measures; Inseason Adjustments. RIN 0648-AS61 (70 FR 20304, April 19, 2005). The Assistant Administrator for Fisheries, on behalf of the International Pacific Halibut Commission, publishes annual management measures to govern the Pacific halibut fishery. These measures are promulgated as regulations by the International Pacific Halibut Commission and accepted by the Secretary of State. The Assistant Administrator for Fisheries announced modifications to the Catch Sharing Plan for Area 2A and implementing regulations for 2005, and announced approval of the Area 2A Plan. The Assistant Administrator for Fisheries also announced related changes to management measures in the recreational Pacific Coast groundfish fisheries, which are authorized by the Pacific Coast Groundfish FMP. These actions were intended to enhance the conservation of Pacific halibut and groundfish and further the goals and objectives of the Pacific Fishery Management Council.

37. Magnuson-Stevens Act Provisions; Fisheries Off West Coast States and in the Western Pacific; Pacific Coast Groundfish Fishery; Biennial Specifications and Management Measures; Correction. RIN 0648-AS27 (70 FR 22808, May 3, 2005). This final rule established the 2005 fishery specifications for Pacific whiting in the U.S. exclusive economic zone and state waters off the coasts of Washington, Oregon, and California, as authorized by the Pacific Coast Groundfish FMP. It also adjusted the bycatch limits in the whiting fishery. This Federal Register document also corrected the final rule implementing the specifications and management measures, which was published December 23, 2004. These specifications included the level of the acceptable biological catch, optimum yield, tribal allocation, and allocations for the non-tribal commercial sectors. The intended effect of this action was to establish allowable harvest levels of whiting based on the best available scientific information.

38. Magnuson-Stevens Act Provisions; Fishing Capacity Reduction Program; Pacific Coast Groundfish Fishery; California, Washington, and Oregon Fisheries for Coastal Dungeness Crab and Pink Shrimp; Industry Fee System for Fishing Capacity Reduction Loan. RIN 0648-AS38 (70 FR 40225, July 13, 2005 and 71 FR 27, January 3, 2006). NMFS established regulations to implement an industry fee system for repaying a $35,662,471 Federal loan. The loan financed most of the cost of a fishing capacity reduction program in the Pacific Coast groundfish fishery. The industry fee system imposed fees on the value of future groundfish landed in the trawl portion (excluding whiting catcher-processors) of the Pacific Coast groundfish fishery. It also imposed fees on coastal Dungeness crab and pink shrimp landed in the California, Washington, and Oregon fisheries for coastal Dungeness crab and pink shrimp. This action's intent was to implement the industry fee system.

39. Fisheries off West Coast States and in the Western Pacific; Pacific Coast Groundfish Fishery; Specifications and Management Measures. RIN 0648-AU00 (71 FR 8489, February 17, 2006). NMFS implemented revisions to the 2006 commercial and recreational groundfish fishery management measures for groundfish taken in the U.S. exclusive economic zone off the coasts of Washington, Oregon, and California. Management measures that were new for 2006 were intended to: Achieve but not exceed optimum yields; prevent overfishing; rebuild overfished species; and reduce and minimize the incidental catch and discard of overfished and depleted stocks. NMFS was also revising the 2006 darkblotched rockfish optimum yield, at the request of the Pacific Fishery Management Council. These actions, which are authorized by the Pacific Coast Groundfish FMP and the Magnuson-Stevens Act, were intended to allow fisheries to access more abundant groundfish stocks while protecting overfished and depleted stocks.

40. Fisheries Off West Coast States and in the Western Pacific; Pacific Coast Groundfish Fishery; Limited Entry Fixed Gear Sablefish Fishery Permit Stacking Program. RIN 0648-AP38 (71 FR 10614, March 2, 2006). NMFS implemented portions of Amendment 14 to the Pacific Coast Groundfish FMP. Amendment 14 created a permit stacking program for limited entry permits with sablefish endorsements. Amendment 14 was intended to provide greater season flexibility for sablefish fishery participants and to improve safety in the primary sablefish fishery.

41. Pacific Halibut Fisheries; Catch Sharing Plan. RIN 0648-AT56 (71 FR 10850, March 3, 2006). The Assistant Administrator for Fisheries, on behalf of the International Pacific Halibut Commission, published annual management measures promulgated as regulations by the International Pacific Halibut Commission and approved by the Secretary of State governing the Pacific halibut fishery. The Assistant Administrator for Fisheries also announced modifications to the Catch Sharing Plan for Area 2A and implementing regulations for 2006, and announced approval of the Area 2A Catch Sharing Plan. These actions were intended to enhance the conservation of Pacific halibut and further the goals and objectives of the Pacific Fishery Management Council and the North Pacific Fishery Management Council.

42. Magnuson-Stevens Act Provisions; Fisheries off West Coast States; Pacific Coast Groundfish Fishery. RIN 0648-AT98 (71 FR 27408, May 11, 2006). NMFS implemented the regulatory provisions of Amendment 19 to the Pacific Coast Groundfish FMP. Amendment 19 provided for a comprehensive program to describe and protect essential fish habitat for Pacific Coast Groundfish. The management measures to implement Amendment 19, which were authorized by the FMP and the Magnuson-Stevens Act, were intended to minimize, to the extent practicable, adverse effects to essential fish habitat from fishing. The measures included fishing gear restrictions and prohibitions, areas that are closed to bottom trawling, and areas that are closed to all fishing that contacts the bottom.

43. Magnuson-Stevens Act Provisions; Fisheries Off West Coast States; Pacific Coast Groundfish Fishery; Biennial Specifications and Management Measures; Correction. RIN 0648-AU39 (71 FR 29257, May 22, 2006). This final rule established the 2006 fishery specifications for Pacific whiting in the U.S. exclusive economic zone and state waters off the coasts of Washington, Oregon, and California, as authorized by the Pacific Coast Groundfish FMP. It also adjusted the bycatch limits in the whiting fishery. This Federal Register document also corrected the final rule implementing the specifications and management measures, which was published December 23, 2004. These specifications included the level of the acceptable biological catch, optimum yield, tribal allocation, and allocations for the non-tribal commercial sectors. The intended effect of this action was to establish allowable harvest levels of whiting based on the best available scientific information.

44. Fisheries Off West Coast States; Pacific Coast Groundfish Fishery; Amendment 18. RIN 0648-AU12 (71 FR 66122, November 13, 2006). NMFS issued this final rule to implement Amendment 18 to the Pacific Coast Groundfish FMP. Amendment 18 responded to a court order by setting the Pacific Fishery Management Council's bycatch minimization policies and requirements into the FMP.

45. Magnuson-Stevens Act Provisions; Fisheries off West Coast States; Pacific Coast Groundfish Fishery; Biennial Specifications and Management Measures; Amendment 16-4; Pacific Coast Salmon Fishery. RIN 0648-AU57 (71 FR 78638, December 29, 2006). This final rule implemented Amendment 16-4 to the Pacific Coast Groundfish FMP and set the 2007-2008 harvest specifications and management measures for groundfish taken in the U.S. exclusive economic zone off the coasts of Washington, Oregon, and California. Amendment 16-4 modified the FMP to implement revised rebuilding plans for seven overfished species: Bocaccio, canary rockfish, cowcod, darkblotched rockfish, Pacific ocean perch, widow rockfish, and yelloweye rockfish. Groundfish harvest specifications and management measures for 2007-2008 were intended to: Achieve but not exceed optimum yields; prevent overfishing; rebuild overfished species; reduce and minimize the bycatch and discard of overfished and depleted stocks; provide harvest opportunity for the recreational and commercial fishing sectors; and, within the commercial fisheries, achieve harvest guidelines and limited entry and open access allocations for nonoverfished species. Together, Amendment 16-4 and the 2007-2008 harvest specifications and management measures were intended to rebuild overfished stocks as soon as possible, taking into account the status and biology of the stocks, the needs of fishing communities, and the interaction of the overfished stocks within the marine ecosystem. In addition to the management measures implemented specifically for the groundfish fisheries, this rule implemented a new Yelloweye Rockfish Conservation Area off Washington State, which is closed to commercial salmon troll fishing to reduce incidental mortality of yelloweye rockfish in the salmon troll fishery.

46. Fisheries Off West Coast States and in the Western Pacific; Western Pacific Pelagic Fisheries; American Samoa Longline Limited Entry Program. RIN 0648-AQ92 (70 FR 29646, May 24, 2005). NMFS issued a final rule to implement Amendment 11 to the FMP for Pelagic Fisheries of the Western Pacific Region, which established a limited entry system for pelagic longline vessels fishing in waters of the U.S. exclusive economic zone around American Samoa. The action was necessary to effectively manage the pelagics fisheries around American Samoa. This final rule was intended to establish management measures that would stabilize effort in the fishery to avoid a “boom and bust” cycle of fishery development that could disrupt community participation and limit opportunity for substantial participation in the fishery by indigenous islanders.

47. Fisheries Off West Coast States and in the Western Pacific; Western Pacific Pelagic Fisheries; Sea Turtle Mitigation Measures. RIN 0648-AQ91 (70 FR 69282, November 15, 2005). NMFS issued a final rule to reduce and mitigate interactions between sea turtles and fisheries managed under the FMP for the Pelagic Fisheries of the Western Pacific Region. This rule included requirements for attending protected species workshops, for handling, resuscitating, and releasing sea turtles that are hooked or entangled in fishing gear, and for fishing gear configuration. This action was undertaken in part to comply with the terms and conditions of a 2004 Biological Opinion on impacts on sea turtles by fisheries managed under the FMP.

48. Fisheries Off West Coast States and in the Western Pacific; Pelagic Fisheries; Additional Measures to Reduce the Incidental Catch of Seabirds in the Hawaii Pelagic Longline Fishery. RIN 0648-AS30 (70 FR 75075, December 19, 2005). NMFS issued a final rule implementing measures to further reduce the incidental catch of seabirds in the Hawaii-based longline fishery. Depending on the fishing method and area where the vessels operate, owners and operators of longline fishing vessels must either side-set (deploy longline gear from the side of the vessel rather than from the stern) or use a combination of other seabird mitigation measures to prevent seabirds from being accidentally hooked, entangled, and killed during fishing operations. NMFS also announced the availability of the Record of Decision for the “Final Environmental Impact Statement, Seabird Interaction Avoidance Methods under the FMP for Pelagic Fisheries of the Western Pacific Region and Pelagic Squid Fishery Management under the FMP for Pelagic Fisheries of the Western Pacific Region and the High Seas Fishing Compliance Act.” The Record of Decision announced that NMFS selected the Preferred Alternative, modified slightly, to cost-effectively further reduce the potentially harmful effects of the Hawaii-based longline fishery on seabirds.

49. Fisheries in the Western Pacific; Western Pacific Bottomfish and Seamount Groundfish Fisheries; Guam Bottomfish Management Measures. RIN 0648-AT94 (71 FR 64474, November 2, 2006). NMFS issued this final rule to implement Amendment 9 to the FMP for Bottomfish and Seamount Groundfish Fisheries of the Western Pacific Region that prohibited large vessels, i.e., those 50 ft (15.2 m) or longer, from fishing for bottomfish in Federal waters within 50 nm (92.6 km) around Guam, and established Federal permitting and reporting requirements for these large bottomfish fishing vessels. This final rule was intended to maintain viable participation and bottomfish catch rates by small vessels in the fishery, to maintain traditional patterns of the bottomfish supply to local Guam markets, to provide for the collection of adequate fishery information for effective management, and to reduce the risk of local depletion of deepwater bottomfish stocks near Guam.

50. Fisheries of the Caribbean, Gulf of Mexico, and South Atlantic; Reef Fish Fishery of the Gulf of Mexico; Red Snapper Rebuilding Plan. RIN 0648-AP02 (70 FR 32266, June 2, 2005). NMFS issued this final rule to implement Amendment 22 to the FMP for the Reef Fish Resources of the Gulf of Mexico prepared by the Gulf of Mexico Fishery Management Council. This final rule provided the regulatory authority to implement a mandatory observer program for selected commercial and for-hire vessels in the Gulf of Mexico reef fish fishery. In addition, consistent with the requirements of the Magnuson-Stevens Act, Amendment 22 established a stock rebuilding plan, biological reference points, and stock status determination criteria for red snapper in the Gulf of Mexico. The intended effect of this final rule was to contribute to ending overfishing and rebuilding the red snapper resource. Finally, NMFS informed the public of the approval by the Office of Management and Budget of the collection-of-information requirements contained in this final rule and published the Office of Management and Budget control numbers for those collections.

51. Fisheries of the Caribbean, Gulf of Mexico, and South Atlantic; Reef Fish Fishery of the Gulf of Mexico; Vermilion Snapper Rebuilding Plan. RIN 0648-AS19 (70 FR 33385, June 8, 2005). NMFS issued this final rule to implement Amendment 23 to the FMP for the Reef Fish Resources of the Gulf of Mexico prepared by the Gulf of Mexico Fishery Management Council. This final rule increased the minimum size limit for vermilion snapper to 11 inches (28 cm), total length, for the recreational and commercial sectors; established a 10-fish recreational bag limit for vermilion snapper within the existing 20-fish aggregate reef fish bag limit; and closed the commercial vermilion snapper fishery from April 22 through May 31 each year. In addition, consistent with the requirements of the Magnuson-Stevens Act, Amendment 23 established a stock rebuilding plan, biological reference points, and stock status determination criteria for vermilion snapper in the Gulf of Mexico. The intended effect of this final rule was to end overfishing and rebuild the vermilion snapper resource.

52. Fisheries of the Caribbean, Gulf of Mexico, and South Atlantic; Coastal Migratory Pelagic Resources of the Gulf of Mexico and South Atlantic; Amendment 15. RIN 0648-AS53 (70 FR 39187, July 7, 2005). NMFS issued this final rule to implement Amendment 15 to the FMP for the Coastal Migratory Pelagic Resources of the Gulf of Mexico and South Atlantic. This final rule established a limited access system for the commercial fishery for Gulf and Atlantic migratory group king mackerel by capping participation at the current level. The final rule also changed the fishing year for Atlantic migratory group king and Spanish mackerel to March through February. The intended effects of this final rule were to provide economic and social stability in the fishery by preventing speculative entry into the fishery and to mitigate adverse impacts associated with potential quota closures.

53. Fisheries of the Caribbean, Gulf of Mexico, and South Atlantic; Reef Fish Fishery of the Gulf of Mexico; Gulf Reef Fish Limited Access System. RIN 0648-AS69 (70 FR 41161, July 18, 2005). NMFS issued this final rule to implement Amendment 24 to the FMP for the Reef Fish Resources of the Gulf of Mexico prepared by the Gulf of Mexico Fishery Management Council. This final rule established a limited access system for the commercial reef fish fishery in the Gulf of Mexico by capping participation at the current level. The intended effect of this final rule was to provide economic and social stability in the fishery by preventing speculative entry into the fishery.

54. Fisheries of the Caribbean, Gulf of Mexico, and South Atlantic; Comprehensive Amendment to the FMPs of the U.S. Caribbean. RIN 0648-AP51 (70 FR 62073, October 28, 2005). NMFS issued this final rule to implement a comprehensive amendment prepared by the Caribbean Fishery Management Council to amend its Reef Fish, Spiny Lobster, Queen Conch, and Coral FMPs. The comprehensive amendment was designed to ensure the FMPs are fully compliant with the provisions of the Magnuson-Stevens Act. This final rule redefined the fishery management units for the FMPs; established seasonal closures; imposed gear restrictions and requirements; revised requirements for marking pots and traps; and prohibited the filleting of fish at sea. In addition, the comprehensive amendment established biological reference points and stock status criteria; established rebuilding schedules and strategies to end overfishing and rebuild overfished stocks; provided for standardized collection of bycatch data; minimized bycatch and bycatch mortality to the extent practicable; designated essential fish habitat and habitat areas of particular concern; and minimized adverse impacts on such habitat to the extent practicable. The intended effect of this final rule was to achieve optimum yield in the fisheries and provide social and economic benefits associated with maintaining healthy stocks.

55. Fisheries of the Caribbean, Gulf of Mexico, and South Atlantic; Shrimp Fishery Off the Southern Atlantic States; Amendment 6. RIN 0648-AS16 (70 FR 73383, December 12, 2005). NMFS issued this final rule to implement Amendment 6 to the FMP for the Shrimp Fishery of the South Atlantic Region, as prepared and submitted by the South Atlantic Fishery Management Council. This final rule required an owner or operator of a trawler that harvests or possesses penaeid shrimp in or from the exclusive economic zone off the southern Atlantic states to obtain a commercial vessel permit for South Atlantic penaeid shrimp; required an owner or operator of a vessel in the South Atlantic rock shrimp or penaeid shrimp fishery to submit catch and effort reports and to carry an observer on selected trips; and required bycatch reduction devices in nets in the rock shrimp fishery. Amendment 6 also established stock status determination criteria for South Atlantic penaeid shrimp; revised the specifications of maximum sustainable yield and optimum yield for South Atlantic rock shrimp; revised the stock status determination criteria for South Atlantic rock shrimp; revised the bycatch reduction criterion for the certification of bycatch reduction devices; and transfered from the Council to the Regional Administrator, Southeast Region, responsibilities for the specification of the protocol for testing bycatch reduction devices. In addition, NMFS informed the public of the approval by the Office of Management and Budget of the collection-of-information requirements contained in this final rule and published the Office of Management and Budget control numbers for those collections. The intended effects of this rule were to provide additional information for, and improve the effective management of, the shrimp fisheries off the southern Atlantic states and to correct and clarify the regulations applicable to other southern Atlantic fisheries.

56. Fisheries of the Caribbean, Gulf of Mexico, and South Atlantic; Gulf of Mexico Essential Fish Habitat Amendment. RIN 0648-AS66 (70 FR 76216, December 23, 2005). NMFS issued this final rule to implement Generic Amendment 3 to the FMPs of the Gulf of Mexico, which was prepared by the Gulf of Mexico Fishery Management Council. Generic Amendment 3 amended each of the seven Council FMPs (shrimp, red drum, reef fish, coastal migratory pelagic resources, coral and coral reefs, stone crab, and spiny lobster) to describe and identify essential fish habitat; minimize to the extent practicable the adverse effects of fishing on essential fish habitat; and encourage conservation and management of essential fish habitat. This final rule established additional habitat areas of particular concern, restricted fishing activities within habitat areas of particular concern, and required a weak link in bottom trawl gear. The intended effect of this final rule was to facilitate long-term protection of essential fish habitat and, thus, better conserve and manage fishery resources in the Gulf of Mexico.

57. Fisheries of the Caribbean, Gulf of Mexico, and South Atlantic; Gulf of Mexico Commercial Grouper Fishery; Trip Limit. RIN 0648-AT12 (70 FR 77057, December 29, 2005). NMFS issued this final rule to implement a regulatory amendment to the FMP for the Reef Fish Resources of the Gulf of Mexico prepared by the Gulf of Mexico Fishery Management Council. This final rule established a 6,000-lb (2,722-kg) commercial trip limit for shallow-water and deep-water grouper, combined, in the exclusive economic zone of the Gulf of Mexico. The intended effect of this final rule was to minimize the effects of derby fishing and prolong the fishing season.

58. Fisheries of the Caribbean, Gulf of Mexico, and South Atlantic; Coastal Migratory Pelagic Resources of the Gulf of Mexico and South Atlantic; Reef Fish Fishery of the Gulf of Mexico; Limited Access Program for Gulf Charter Vessels and Headboats. RIN 0648-AS70 (71 FR 28282, May 16, 2006). NMFS issued this final rule to implement Amendment 17 to the FMP for the Coastal Migratory Pelagic Resources of the Gulf of Mexico and South Atlantic, and Amendment 25 to the FMP for the Reef Fish Resources of the Gulf of Mexico prepared by the Gulf of Mexico Fishery Management Council. This final rule established a limited access system for charter vessel/headboat permits for the reef fish and coastal migratory pelagic fisheries in the exclusive economic zone of the Gulf of Mexico. In addition, this final rule incorporated a number of minor revisions to remove outdated regulatory text and to clarify regulatory text. The intended effect of this final rule was to provide for biological, social, and economic stability in these charter vessel/headboat fisheries.

59. Fisheries of the Caribbean, Gulf of Mexico, and South Atlantic; Gulf of Mexico Recreational Grouper Fishery Management Measures. RIN 0648-AU04 (71 FR 34534, June 15, 2006). NMFS issued this final rule to implement the bag limit provisions of a regulatory amendment to the FMP for the Reef Fish Resources of the Gulf of Mexico prepared by the Gulf of Mexico Fishery Management Council. This final rule established a recreational bag limit for Gulf red grouper of one fish per person per day and prohibited the captain and crew of a vessel operating as a charter vessel or headboat from retaining any Gulf grouper, i.e., established a zero bag limit for captain and crew. The intended effect of this final rule was to help maintain recreational landings at levels consistent with the red grouper rebuilding plan.

60. Fisheries of the Caribbean, Gulf of Mexico, and South Atlantic; Reef Fish Fishery of the Gulf of Mexico; Amendment 18A. RIN 0648-AN09 (71 FR 45428, August 9, 2006). NMFS issued this final rule to implement Amendment 18A to the FMP for the Reef Fish Resources of the Gulf of Mexico prepared by the Gulf of Mexico Fishery Management Council. This final rule prohibited vessels from retaining reef fish caught under the recreational size and bag/possession limits when commercial quantities of Gulf reef fish are on board; adjusted the number of persons allowed on board when a vessel with both commercial and charter vessel/headboat reef fish permits and a U.S. Coast Guard Certificate of Inspection is fishing commercially; prohibited use of Gulf reef fish, except sand perch or dwarf sand perch, as bait in any commercial or recreational fishery in the exclusive economic zone of the Gulf of Mexico, with a limited exception for crustacean trap fisheries; required a NMFS-approved vessel monitoring system on board vessels with Federal commercial permits for Gulf reef fish, including charter vessels/headboats with such commercial permits; and required owners and operators of vessels with Federal commercial or charter vessel/headboat permits for Gulf reef fish to comply with sea turtle and smalltooth sawfish release protocols, possess on board specific gear to ensure proper release of such species, and comply with guidelines for proper care and release of incidentally caught sawfish and sea turtles. This final rule also required annual permit application rather than application every 2 years. In addition, Amendment 18A revised the total allowable catch framework procedure to reflect current practices and terminology. The intended effects of this final rule were to improve enforceability and monitoring in the reef fish fishery in the Gulf of Mexico and to reduce mortality of incidentally caught sea turtles and smalltooth sawfish. Finally, NMFS informed the public of approval by the Office of Management and Budget of the collection-of-information requirements contained in this final rule and published the Office of Management and Budget control numbers for those collections.

61. Fisheries of the Caribbean, Gulf of Mexico, and South Atlantic; Snapper- Grouper Fishery Off the Southern Atlantic States; Amendment 13C. RIN 0648-AT75 (71 FR 55096, September 21, 2006). NMFS issued this final rule to implement Amendment 13C to the FMP for the Snapper-Grouper Fishery of the South Atlantic Region, as prepared and submitted by the South Atlantic Fishery Management Council. Amendment 13C established management measures to end overfishing of snowy grouper, golden tilefish, vermilion snapper, and black sea bass and measures to allow moderate increases in recreational and commercial harvest of red porgy consistent with the rebuilding program for that stock. For the commercial fisheries, this final rule established restrictive quotas for snowy grouper, golden tilefish, vermilion snapper, and black sea bass and, after the quotas are met, prohibited all purchase and sale of the applicable species and restricted all harvest and possession to the applicable bag limit; established restrictive trip limits for snowy grouper and golden tilefish; required at least 2-inch (5.1-cm) mesh in the back panel of black sea bass pots; required black sea bass pots to be removed from the water after the quota was reached; changed the fishing year for black sea bass; increased the trip limit for red porgy; established a red porgy quota that would allow a moderate increase in harvest; and, after the red porgy quota was reached, prohibited all purchase and sale, and restricted all harvest and possession to the bag limit. For the recreational fisheries, this final rule reduced the bag limits for snowy grouper, golden tilefish, and black sea bass; increased the minimum size limit for vermilion snapper and black sea bass; changed the fishing year for black sea bass; and increased the bag limit for red porgy. The intended effects of this final rule were to eliminate or phase out overfishing of snowy grouper, golden tilefish, vermilion snapper, and black sea bass; and increase red porgy harvest consistent with an updated stock assessment and rebuilding plan to achieve optimum yield. Finally, NMFS informed the public of the approval by the Office of Management and Budget of the collection-of-information requirements contained in this final rule and published the Office of Management and Budget control numbers for those collections.

62. Fisheries of the Caribbean, Gulf of Mexico, and South Atlantic; Shrimp Fishery of the Gulf of Mexico; Amendment 13. RIN 0648-AS15 (71 FR 56039, September 26, 2006). NMFS issued this final rule to implement Amendment 13 to the FMP for the Shrimp Fishery of the Gulf of Mexico, as prepared and submitted by the Gulf of Mexico Fishery Management Council. This final rule established a 10-year moratorium on issuance of Federal Gulf shrimp vessel permits; required owners of vessels fishing for or possessing royal red shrimp from the Gulf of Mexico exclusive economic zone to have a royal red shrimp endorsement; required owners or operators of all federally permitted Gulf shrimp vessels to report information on landings and vessel and gear characteristics; and required vessels selected by NMFS to carry observers and/or install an electronic logbook provided by NMFS. In addition, Amendment 13 established biological reference points for penaeid shrimp and status determination criteria for royal red shrimp. The intended effects of this final rule were to provide essential fisheries data, including bycatch data, needed to improve management of the fishery and to control access to the fishery. Finally, NMFS informed the public of the approval by the Office of Management and Budget of the collection of information requirements contained in this final rule and published the Office of Management and Budget control numbers for those collections.

63. Fisheries of the Caribbean, Gulf of Mexico, and South Atlantic; Gulf of Mexico Recreational Grouper Fishery Management Measures. RIN 0648-AU04 (71 FR 66878, November 17, 2006). NMFS issued this final rule to implement the seasonal closure provisions of a regulatory amendment to the FMP for the Reef Fish Resources of the Gulf of Mexico prepared by the Gulf of Mexico Fishery Management Council. This final rule established a seasonal closure of the recreational fishery for gag, red grouper, and black grouper in or from the Gulf exclusive economic zone. The intended effect of this final rule was to help maintain recreational landings at levels consistent with the red grouper rebuilding plan while minimizing potential shift of fishing effort to associated grouper species.

64. Fisheries of the Caribbean, Gulf of Mexico, and South Atlantic; Reef Fish Fishery of the Gulf of Mexico; Amendment 26. RIN 0648-AS67 (71 FR 67447, November 22, 2006). NMFS issued this final rule to implement Amendment 26 to the FMP for the Reef Fish Fishery of the Gulf of Mexico. Amendment 26 established an individual fishing quota program for the commercial red snapper sector of the reef fish fishery in the Gulf of Mexico. Initial participants in the individual fishing quota program received percentage shares of the commercial quota of red snapper based on specified historical landings criteria. The percentage shares of the commercial quota equate to annual individual fishing quota allocations. In addition, NMFS informed the public of the approval by the Office of Management and Budget of the collection-of-information requirements contained in this final rule and published the Office of Management and Budget control numbers for those collections. The intended effect of this rule was to manage the commercial red snapper sector of the reef fish fishery to preserve its long-term economic viability and to achieve optimum yield from the fishery.

65. Fisheries Off West Coast States and in the Western Pacific; Highly Migratory Species Fisheries; Data Collection Requirements for U.S. Commercial and Recreational Charter Fishing Vessels. RIN 0648-AP42 (70 FR 7022, February 10, 2005). NMFS announced approval by the Office of Management and Budget of collection-of-information requirements pertaining to permits, logbooks, vessel monitoring systems, and pre-trip notifications contained in the final rule to implement the approved portions of the U.S. West Coast Highly Migratory Species FMP. The FMP was partially approved on February 4, 2004, and the final rule to implement the approved portions of the HMS FMP was published in the Federal Register on April 7, 2004. At that time, the FMP final rule contained collection-of-information requirements subject to the Paperwork Reduction Act that were undergoing Office of Management and Budget review. The intent of this notice was to inform the public of the effective date of the requirements approved by Office of Management and Budget. Reporting requirements of the FMP are needed to obtain sufficient information for management while minimizing duplication.

66. Fisheries Off West Coast States and in the Western Pacific; Highly Migratory Species Fisheries; Data Collection Requirements for U.S. Commercial and Recreational Charter Fishing Vessels. RIN 0648-AT97 (70 FR 67349, November 7, 2005). NMFS announced approval by the Office of Management and Budget of collection-of-information requirements pertaining to vessel identification contained in the final rule to implement the approved portions of the U.S. West Coast Highly Migratory Species FMP, and the effectiveness of those requirements. On February 4, 2004, NMFS partially approved the HMS FMP, and the final rule to implement the approved portions of the HMS FMP was published in the Federal Register on April 7, 2004. The HMS FMP final rule contained vessel identification requirements subject to the Paperwork Reduction Act that, at the time of publication, were still undergoing Office of Management and Budget review. This action informed the public of the effective date of the requirement approved by Office of Management and Budget. Vessel identification requirements are necessary for proper enforcement of the FMP.

67. Fisheries Off West Coast States; Coastal Pelagic Species Fisheries; Amendment 11. RIN 0648-AT11 (71 FR 36999, June 29, 2006). NMFS issued this final rule to implement Amendment 11 to the Coastal Pelagic Species FMP, which changed the framework for the annual apportionment of the Pacific sardine harvest guideline along the U.S. Pacific coast. The purpose of this final rule was to achieve optimal utilization of the Pacific sardine resource and equitable allocation of the harvest opportunity for Pacific sardine.

68. Atlantic Coastal Fisheries Cooperative Management Act Provisions; American Lobster Fishery. RIN 0648-AP18 (71 FR 13027, March 14, 2006). NMFS amended regulations to modify the management measures applicable to the Federal American lobster (Homarus americanus) fishery. This action was in response to recommendations by the Atlantic States Marine Fisheries Commission in Addenda II and III to Amendment 3 of the Interstate FMP for American Lobster. The lobster management measures were intended to increase protection to American lobster broodstock throughout the stock's range, and applied to lobsters harvested in one or more of seven Lobster Conservation Management Areas. In addition, NMFS clarified existing Federal lobster regulations.

69. Taking of Marine Mammals Incidental to Commercial Fishing Operations; Tuna Purse Seine Vessels in the Eastern Tropical Pacific Ocean. RIN 0648-AS05 (70 FR 19004, April 12, 2005). NMFS issued a final rule to implement resolutions adopted by the Inter-American Tropical Tuna Commission and by the Parties to the Agreement on the International Dolphin Conservation Program. The final rule prohibited activities that undermine the effective implementation and enforcement of the Marine Mammal Protection Act, Dolphin Protection Consumer Information Act, and International Dolphin Conservation Program Act.

70. Endangered and Threatened Species; Designation of Critical Habitat for Seven Evolutionarily Significant Units of Pacific Salmon and Steelhead in California. RIN 0648-AO04 (70 FR 52488, September 2, 2005). NMFS issued a final rule designating critical habitat for two Evolutionarily Significant Units of chinook salmon (Oncorhynchus tshawytscha) and five Evolutionarily Significant Units of steelhead (O. mykiss) listed as of the date of this designation under the Endangered Species Act of 1973, as amended. The specific areas designated in the rule text included approximately 8,935 net mi (14,269 km) of riverine habitat and 470 mi² (1,212 km²) of estuarine habitat in California. Some of the areas designated are occupied by two or more Evolutionarily Significant Units. The annual net economic impacts of changes to Federal activities as a result of the critical habitat designations were estimated to be approximately $81,647,439. This rule was issued to meet the timeline established in litigation between NMFS and Pacific Coast Federation of Fishermen's Associations (Civ. No. 03-1883).

71. Endangered and Threatened Species; Designation of Critical Habitat for 12 Evolutionarily Significant Units of West Coast Salmon and Steelhead in Washington, Oregon, and Idaho. RIN 0648-AQ77 (70 FR 52630, September 2, 2005). NMFS issued a final rule designating critical habitat for 12 Evolutionarily Significant Units of West Coast salmon (chum, Oncorhynchus keta; sockeye, O. nerka; chinook, O. tshawytscha; and steelhead, O. mykiss) listed as of the date of this designation under the Endangered Species Act of 1973, as amended. The specific areas designated in the rule text included approximately 20,630 mi (33,201 km) of lake, riverine, and estuarine habitat in Washington, Oregon, and Idaho, as well as approximately 2,312 mi (3,721 km) of marine nearshore habitat in Puget Sound. Some of the areas designated are occupied by two or more Evolutionarily Significant Units. The annual net economic impacts of changes to Federal activities as a result of critical habitat designation were estimated to be approximately $201.2 million. Fish and wildlife conservation actions for the Federal Columbia River Power System and other major hydropower projects in the Pacific Northwest were expected to generate another $500-700 million in annual costs, including forgone power revenues. While these hydropower projects were covered by Endangered Species Act section 7, the conservation actions that generated these costs were imposed by a wide variety of laws. This rule was being issued to meet the timeline established in litigation between NMFS and Pacific Coast Federation of Fishermen's Associations (Civ. No. 03-1883).

72. Taking of Marine Mammals Incidental to Commercial Fishing Operations; Bottlenose Dolphin Take Reduction Plan Regulations; Sea Turtle Conservation; Restrictions to Fishing Activities. RIN 0648-AR39 (71 FR 24776, April 26, 2006). NMFS issued this final rule to implement regulatory and nonregulatory management measures to reduce the incidental mortality and serious injury of the western North Atlantic coastal bottlenose dolphin stock (Tursiops truncatus) in the mid-Atlantic coastal gillnet fishery and eight other coastal fisheries operating within the dolphin's distributional range. This final rule also revised the large mesh size restriction under the mid-Atlantic large mesh gillnet rule for conservation of endangered and threatened sea turtles to provide consistency among Federal and state management measures. The measures contained in this final rule implemented gillnet effort reduction, gear proximity requirements, gear or gear deployment modifications, and outreach and education measures to reduce dolphin bycatch below the marine mammal stock's potential biological removal level. The rule combined two actions under different statutory authorities, to: (1) Implement the Bottlenose Dolphin Take Reduction Plan under the Marine Mammal Protection Act; and (2) amend the Endangered Species Act mid-Atlantic large mesh gillnet rule.

73. Sea Turtle Conservation; Modification to Fishing Activities. RIN 0648-AU10 (71 FR 36024, June 23, 2006). NMFS required that any offshore pound net leader in the Virginia waters of the mainstem Chesapeake Bay, south of 37°19.0′ N. lat. and west of 76°13.0′ W. long., and all waters south of 37°13.0′ N. lat. to the Chesapeake Bay Bridge Tunnel at the mouth of the Chesapeake Bay, and the James and York Rivers downstream of the first bridge in each tributary, during the period of May 6 through July 15, meet the definition of a modified pound net leader. Without this final rule, existing regulations would continue to prohibit all offshore pound net leaders in that area during that time frame. While restrictions promulgated in 2004 on pound net leaders in the Virginia waters of the Chesapeake Bay outside the aforementioned area remained in effect, this final rule created an exception to those restrictions by allowing the use of modified pound net leaders in this area. This action, taken under the Endangered Species Act of 1973, responded to new information generated by gear research. It was intended to conserve sea turtles listed as threatened under the Endangered Species Act and to help enforce the provisions of the Endangered Species Act, including the provisions against takes of endangered species, while enabling fishermen to use leaders during the regulated period.

74. Endangered and Threatened Species; Revision of Critical Habitat for the Northern Right Whale in the Pacific Ocean. RIN 0648-AT84 (71 FR 38277, July 6, 2006). NMFS issued a final rule to revise the current critical habitat for the northern right whale (Eubalaena glacialis) by designating additional areas within the North Pacific Ocean. Two specific areas were designated, one in the Gulf of Alaska and another in the Bering Sea, comprising a total of approximately 95,200 square kilometers (36,750 square miles) of marine habitat. As described in the impacts analysis prepared for this action, we considered the economic impacts, impacts to national security, and other relevant impacts and concluded that the benefits of exclusion of any area from the critical habitat designation do not outweigh the benefits of inclusion. This final rule was issued to meet the deadline established in a remand order of the United States District Court for the Northern District of California.

75. Endangered and Threatened Wildlife; Sea Turtle Conservation. RIN 0648-AS92 (71 FR 50361, August 25, 2006). NMFS issued this final rule to require sea turtle conservation measures for all sea scallop dredge vessels fishing south of 41°9.0′ N. latitude from May 1 through November 30 each year. All vessels with a sea scallop dredge and that are required to have a Federal Atlantic sea scallop fishery permit, regardless of dredge size or vessel permit category, were required to modify their dredge(s) when fishing south of 41°9.0′ N. latitude, from the shoreline to the outer boundary of the Exclusive Economic Zone. This action was necessary to help reduce mortality and injury to endangered and threatened sea turtles in scallop dredge gear and to conserve sea turtles listed under the Endangered Species Act. Any incidental take of threatened sea turtles in sea scallop dredge gear in compliance with this gear modification requirement and all other applicable requirements was exempted on the Endangered Species Act's prohibition against takes.

76. Endangered and Threatened Species; Designation of Critical Habitat for Southern Resident Killer Whale. RIN 0648-AU38 (71 FR 69054, November 29, 2006). NMFS issued a final rule designating critical habitat for the Southern Resident killer whale (Orcinus orca) distinct population segment. Under the Endangered Species Act, we are responsible for determining whether certain species, subspecies, or distinct population segments are threatened or endangered, and designating critical habitat for them. Three specific areas were designated, (1) the Summer Core Area in Haro Strait and waters around the San Juan Islands; (2) Puget Sound; and (3) the Strait of Juan de Fuca, which comprise approximately 2,560 square miles (6,630 sq km) of marine habitat. We considered the economic impacts and impacts to national security, and concluded the benefits of exclusion of 18 military sites, comprising approximately 112 square miles (291 sq km), outweighed the benefits of inclusion because of national security impacts. An economic analysis, biological report, and Endangered Species Act report were available for comment along with the proposed rule. The supporting documents were finalized in support of the final critical habitat designation.

Dated: June 14, 2013.
Alan D. Risenhoover,
Director, Office of Sustainable Fisheries, performing the functions and duties of the Deputy Assistant Administrator for Regulatory Programs, National Marine Fisheries Service.

[FR Doc. 2013-14759 Filed 6-19-13; 8:45 am]

BILLING CODE 3510-22-P